NATIONAL AERONAUTICS AND SPACE ADMINISTRATION

14 CFR Part 1260

RIN 2700-AC98

NASA Grant and Cooperative Agreement Handbook—Grant and Cooperative Agreement Announcement Numbering

AGENCY: National Aeronautics and Space Administration.

ACTION: Final rule.

SUMMARY: This final rule amends the NASA Grant and Cooperative Agreement Handbook by adding a format and numbering scheme to identify announcements for NASA's grants and cooperative agreements. The NASA FAR Supplement (NFS) was recently changed to incorporate a revised solicitation numbering scheme. This change was implemented to make solicitation numbers consistent with the data fields of NASA's IFM system. Although assistance agreements are not subject to the NFS, NASA has always used the same numbering schemes for assistance agreements and contracts, as a matter of simplicity and efficiency. The Grant and Cooperative Agreement Handbook will be amended to include a cross-reference to the NFS.

EFFECTIVE DATE: March 31, 2004.

ADDRESSES: Interested parties may submit comments, identified by RIN number 2700-AC98, via the Federal eRulemaking Portal: http://www.regulations.gov. Follow the instructions for submitting comments. Comments may also be submitted to Suzan Moody, NASA, Office of Procurement, Contract Management Division (Code HK), Washington, DC 20546. Comments can also be submitted by e-mail to: Suzan.P.Moody@nasa.gov.

FOR FURTHER INFORMATION CONTACT: Suzan P. Moody, NASA Headquarters, Code HK, Washington, DC, (202) 358-0503, e-mail: Suzan.P.Moody@nasa.gov.

SUPPLEMENTARY INFORMATION:

A. Background

This final rule amends the NASA Grant and Cooperative Agreement Handbook to incorporate a format and numbering scheme to identify announcements for NASA's grants and cooperative agreements. This 12 character number consists of the following: Two alpha digits for the Agency (NN); one alpha digit for the Center; two numeric digits for the fiscal year; six alpha and numeric digits for either the purchase request or the issuing organization's code and action number; and one alpha digit for the type of announcement.

The NASA Grant and Cooperative Agreement Handbook does not currently include a format and numbering scheme for announcements of grants and cooperative agreements. Each NASA Center has its own procedures for numbering announcements. This change will bring consistency to the procedures for numbering announcements, and ensure these procedures are consistent with the data fields of NASA's Integrated Financial Management (IFM) system. The Grant and Cooperative Agreement Handbook will be amended to include a cross-reference to NFS 1804.7102, “Numbering Scheme for Solicitations”.

B. Regulatory Flexibility Act

NASA certifies that this final rule will not have a significant economic impact on a substantial number of small entities within the meaning of the Regulatory Flexibility Act, 5 U.S.C. 601 et seq., because the changes modify existing internal operational practices.

C. Paperwork Reduction Act

The Paperwork Reduction Act does not apply because this final rule does not impose any new recordkeeping or information collection requirements, or collection of information from offerors, contractors, or members of the public that require the approval of the Office of Management and Budget under 44 U.S.C. 3501, et. seq.

List of Subjects in 14 CFR Part 1260

Grant Programs—Science and Technology.

Tom Luedtke,
Assistant Administrator for Procurement.

Accordingly, 14 CFR Part 1260 is amended as follows:

1. The authority citation for 14 CFR 1260 continues to read as follows:

Authority: 42 U.S.C. 2473(c)(1), Pub. L. 97-258, 96 Stat. 1003 (31 U.S.C. 6301, et seq.)

PART 1260—GRANTS AND COOPERATIVE AGREEMENTS

2. Add section 1260.8 to read as follows:

§ 1260.8 Announcements.

Announcements for grants and cooperative agreements shall use the solicitation numbering scheme stated in NFS 1804.7102, “Numbering scheme for solicitations”.

[FR Doc. 04-7237 Filed 3-30-04; 8:45 am]

BILLING CODE 7510-01-P